DEPARTMENT OF TRANSPORTATION

Office of the Secretary

Aviation Proceedings, Agreements filed the week ending January 17, 2009

The following Agreements were filed with the Department of Transportation under the Sections 412 and 414 of the Federal Aviation Act, as amended (49 U.S.C. 1382 and 1384) and procedures governing proceedings to enforce these provisions. Answers may be filed within 21 days after the filing of the application.

Docket Number: DOT-OST-2009-0007.

Date Filed: January 14, 2009.

Parties: Members of the International Air Transport Association.

Subject: TC31 North & Central Pacific. TC3 (except Japan)—North America, Caribbean. TC3-Central America, South America. Special Passenger Amending Resolution from Hong Kong (Memo 0471).

Intended effective date: 15 January 2009.

Docket Number: DOT-OST-2009-0008.

Date Filed: January 14, 2009.

Parties: Members of the International Air Transport Association.

Subject: TC1 Areawide Resolution (Memo 0384).

Intended effective date: 1 January 2009.

Docket Number: DOT-OST-2009-0009.

Date Filed: January 14, 2009.

Parties: Members of the International Air Transport Association.

Subject: TC1 Caribbean Resolution (Memo 0385).

Intended effective date: 1 January 2009.

Docket Number: DOT-OST-2009-0011.

Date Filed: January 14, 2009.

Parties: Members of the International Air Transport Association.

Subject: TC1 Longhaul Between USA and Chile, Panama, Peru Resolution (Memo 0387).

Intended effective date: 1 January 2009.

Docket Number: DOT-OST-2009-0012.

Date Filed: January 14, 2009.

Parties: Members of the International Air Transport Association.

Subject: TC1 Within South America Resolution (Memo 0388).

Intended effective date: 1 January 2009.

Docket Number: DOT-OST-2009-0013.

Date Filed: January 14, 2009.

Parties: Members of the International Air Transport Association.

Subject: TC1 Longhaul Except Between USA and Chile, Panama, Peru Resolution (Memo 0386).

Intended effective date: 1 January 2009.

Docket Number: DOT-OST-2009-0015.

Date Filed: January 16, 2009.

Parties: Members of the International Air Transport Association.

Subject: TC3 Within South East Asia, except between Malaysia and Guam, Resolutions & Specified Fares Tables (Memo 1257).

Intended effective date: 1 April 2009.

Renee V. Wright
Program Manager, Docket Operations Federal Register Liaison.

[FR Doc. E9-1802 Filed 1-27-09; 8:45 am]

BILLING CODE 4910-9X-P